SECURITIES AND EXCHANGE COMMISSION

[Release No. 34-59468; File No. SR-NYSEALTR-2009-16]

Self-Regulatory Organizations; Notice of Filing and Immediate Effectiveness of Proposed Rule Change by NYSE Alternext US LLC Amending Rule 300.10T—NYSE Alternext Equities To Provide a Grace Period Under That Rule for Member Organizations That Have Applied for a Trading License To Comply With Certain Exchange Rules

Correction

In notice document E9-4678 beginning on page 9651 in the issue of Thursday, March 5, 2009, make the following correction:

On page 9654, in the first column, in the first paragraph, in the second line from the bottom, “March 25, 2009” should read “March 26, 2009”.

[FR Doc. Z9-4678 Filed 3-25-09; 8:45 am]

BILLING CODE 1505-01-D